DEPARTMENT OF ENERGY

Request for Information: Understanding Workforce-Development Assets and Gaps for Technical and Non-Technical Bioenergy Workforce Preparation

AGENCY: Office of Energy Efficiency and Renewable Energy, Department of Energy.

ACTION: Request for information (RFI).

SUMMARY: The U.S. Department of Energy (DOE) invites public comment on its Request for Information (RFI) number DE-FOA-00002413 regarding bioenergy workforce-development methods and tools available, as well as those needed in the United States. Specifically, this RFI seeks to provide BETO with evidence-based workforce-development data to help individuals to link to existing and new bioenergy workforce-development tools in order to assist in preparing the nation's current and future workforce for the rapidly and continually changing workforce demands to reskill and upskill in the bioenergy industry.

DATES: Responses to the RFI must be received by November 2, 2020.

ADDRESSES: Interested parties are to submit comments electronically to bioenergizeme@ee.doe.gov. Include “Understanding Bioenergy Workforce-Development Assets and Gaps RFI” as the subject of the email. Only electronic responses will be accepted. The complete RFI document is located at https://eere-exchange.energy.gov/; use the drop down search fields or “bioenergy WD” in the search field at the upper right of the screen.

FOR FURTHER INFORMATION CONTACT: Sheila Dillard; Phone: (202) 375-9258; Email: sheila.dillard@ee.doe.gov.

SUPPLEMENTARY INFORMATION: DOE's Bioenergy Technologies Office (BETO) focuses on applied research and development (R&D) to enable sustainable and cost-effective technologies that are capable of producing bioenergy from non-food sources, such as cellulosic biomass, algae, and wet waste. BETO allocates funding to National Laboratories and industry partners for R&D to reduce the price of biofuel, bioproduct, and biopower production while promoting a thriving U.S. bioeconomy. By working with public- and private-sector partners to advance the domestic bioenergy industry and accompanying workforce, BETO ensures that American families and businesses have multiple affordable and reliable energy and transportation options.

This RFI seeks to provide evidence-based workforce-development data to help individuals link to existing and new bioenergy workforce-development tools, such as the Bioenergy Career Map, which may be found at https://www.energy.gov/eere/bioenergy/bioenergy-career-map. DOE is seeking information from industry, academia, K-12 and postsecondary educators, career counselors, National Laboratories, Government agencies, and other stakeholders to aid in identifying existing bioenergy workforce-development (1) learning/skill development assets and (2) gaps that impede skill development and learning opportunities. This evidence-based workforce-development data will also assist in preparing the nation's current and future workforce for the rapidly and continually changing workforce demands to reskill and upskill in the bioenergy industry. The RFI is available at: https://eere-exchange.energy.gov/; use the drop-down search fields or “BioWD” in the search field at the upper right of the screen.

Confidential Business Information

Pursuant to 10 CFR 1004.11, any person submitting information that he or she believes to be confidential and exempt by law from public disclosure should submit via email, postal mail, or hand delivery two well-marked copies: One copy of the document marked “confidential” including all the information believed to be confidential, and one copy of the document marked “non-confidential” with the information believed to be confidential deleted. Submit these documents via email or on a CD, if feasible. DOE will make its own determination about the confidential status of the information and treat it according to its determination.

It is DOE's policy that all comments may be included in the public docket, without change and as received, including any personal information provided in the comments (except information deemed to be exempt from public disclosure).

Signing Authority

This document of the Department of Energy was signed on September 2, 2020, by Michael Berube, Acting Director of the Bioenergy Technologies Office, Office of Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 2, 2020.
Treena V. Garrett,
Federal Register Liaison Officer, U.S. Department of Energy.

[FR Doc. 2020-19790 Filed 9-4-20; 8:45 am]

BILLING CODE 6450-01-P